SURFACE TRANSPORTATION BOARD

[Docket No. FD 36893]

Connecticut Southern Railroad, Inc.—Modified Rail Certificate

Connecticut Southern Railroad, Inc. (CSO), a Class III railroad, has filed a notice for a modified certificate of public convenience and necessity under 49 CFR part 1150 subpart C—Modified Certificate of Public Convenience and Necessity, for CSO to obtain and hold common carrier authority to operate the Armory Branch Rail Line owned by the Connecticut Department of Transportation (CTDOT). The Armory Branch Rail Line is comprised of the following three connecting segments: (1) beginning in South Windsor, Conn. at approximately Milepost 6.77 and Station Point 1160+73 on Valuation Map 54.75-22 and continuing northerly through the Towns of South Windsor and East Windsor to the point of ending at approximately Milepost 11.99 and Station Point 885+11 on Valuation Map 54.76-17 (First Segment); (2) beginning in East Windsor, Conn. at approximately Milepost 11.99 and Station Point 885+11 on Valuation Map 54.75-17 and continuing northerly through the Towns of East Windsor and Enfield to the point of ending at approximately Milepost 16.59 and Station Point 642+42 on Valuation Map 54.76-13 (Second Segment); and (3) beginning in Enfield, Conn. at approximately Milepost 16.59 and Station Point 642+42 on Valuation Map 54.76-13 and continuing northerly through the Town of Enfield to the point of ending at the Connecticut/Massachusetts State Line at approximately Milepost 20.24 and Station Point 449+63.31 on Valuation Map 54.76-09 (Third Segment; collectively with the First Second and Second Segment, the Line).

CSO states CTDOT acquired the Line in three separate transactions, and notes that these transactions are also set forth in a 1996 Board decision finding that the Line qualified for operation under a modified rail certificate. (Notice 2.) See Cent. New England R.R.—Modified Certificate, Docket No. FD 32769, slip op. at 1 n.2 (STB served Mar. 12, 1996). According to CSO, Conrail abandoned the First Segment, and CTDOT acquired it on May 11, 1995. (Notice 2-3.) See Conrail Aban. in Hartford Cnty., Conn., AB 167 (Sub-No. 984N), slip op. at 1 (ICC served Feb. 23, 1987). CSO further states that CTDOT acquired the Second Segment from the Penn Central Corporation, and explains that the Penn Central Trustee abandoned the segment in 1976 pursuant to Section 308 of the Regional Rail Reorganization Act of 1973, 45 U.S.C. 744(b). (Notice 3.) CSO states that CTDOT acquired the Third Segment from Boston and Maine Corporation, which abandoned the segment in 1993. (Notice 3.) See Boston & Me. Corp.—Aban. Exemption—in Hartford Cnty, Conn. & Hampden Cnty., Mass., AB 32 (Sub-No. 62X) et al., slip op. at 1 (ICC served Nov. 24, 1993). CSO states that the Central New England Railroad, Inc. (CZNR) currently holds a modified rail certificate with respect to the Line, and has done so since 1996.¹ (Id. at 1-2.) See Cent. New England R.R., FD 32769, slip op. at 1-2.

¹ On December 31, 2025, CZNR filed, in Docket No. FD 32769, a notice of intent to terminate its service on the Line under the CZNR modified certificate, effective on March 1, 2026, or such earlier or later date as the Board confirms the authority of CSO to operate the line under its own modified rail certificate. Notice of Intent to Terminate Service, Central New England Railroad, Inc. Modified Certificate, FD 32769 (Dec. 31, 2025); see 49 CFR 1150.24. CSO has authority to commence operations at any time. See 49 CFR 1150.23(a) (“Operations may commence immediately upon the filing” of the modified certificate).

According to the notice, CSO and CTDOT have entered into a Rail Freight Service Operation, License and Maintenance Agreement that extends from January 1, 2026, to December 31, 2046. (Notice 2, 4, Ex. A.)

The Line qualifies for a modified certificate of public convenience and necessity. See Common Carrier Status of States, State Agencies & Instrumentalities & Pol. Subdivs., FD 28990F (ICC served July 16, 1981); 49 CFR 1150.22. CSO states that no subsidy is involved and that there will be no preconditions that shippers must meet to receive service. (Notice 5.) CSO's notice also includes a certificate of liability insurance coverage.² (Notice, Ex. B.)

² Public and confidential versions of both the Rail Freight Service Operation, License and Maintenance Agreement, and the certificate of liability insurance coverage were filed. The confidential versions were submitted under seal concurrently with a motion for protective order, which is addressed in a separate decision.

This notice will be served on the Association of American Railroads (Car Service Division), as agent for all railroads subscribing to the car-service and car-hire agreement, at 425 Third Street SW, Suite 1000, Washington, DC 20024; and on the American Short Line and Regional Railroad Association at 50 F Street NW, Suite 500, Washington, DC 20001.

Board decisions and notices are available at www.stb.gov.

Decided:

By the Board, Anika S. Cooper, Chief Counsel, Office of Chief Counsel.
Regena Smith-Bernard,
Clearance Clerk.

[FR Doc. 2026-01138 Filed 1-21-26; 8:45 am]

BILLING CODE 4915-01-P